DEPARTMENT OF JUSTICE

Notice of Lodging of Consent Decree Under the Clean Air Act

Notice is hereby given that on July 13, 2011, a proposed Consent Decree (“Decree”) in United States v. Alltex Uniform Rental Service, Inc. and G&K Services, Co., Civil Action No. 11-CV-342, was lodged with the United States District Court for the District of New Hampshire.

The Decree resolves claims of the United States against Alltex Uniform Rental Service, Inc. and G&K Services, Co. under the Clean Air Act, 42 U.S.C. 7401-7671q, for injunctive relief and recovery of civil penalties in connection with the defendants' installation and operation of additional industrial laundry equipment in their laundry facility located in Manchester, New Hampshire. The Decree requires the defendants to pay $65,000 in civil penalties; to purchase and retire 75 tons of emission reduction credits; and to institute injunctive relief in the form of production limits and restrictions while seeking permits to install and operate additional equipment to reduce air emissions; and to perform a supplemental environmental project (“SEP”) with a value of at least $220,000. Pursuant to the SEP, the defendants agree to help fund and encourage the replacement of pre-1988 wood stoves with cleaner burning parts and/or stoves.

The Department of Justice will receive for a period of thirty (30) days from the date of this publication comments relating to the Decree. Comments should be addressed to the Assistant Attorney General, Environmental and Natural Resources Division, and either e-mailed to pubcomment-ees.enrd@usdoj.gov or mailed to P.O. Box 7611, U.S. Department of Justice, Washington, DC 20044-7611, and should refer to United States v. Alltex Uniform Service, Inc., et al., 11-CV-342 (D. NH.), D.J. Ref. 90-5-2-1-10075.

The Decree may be examined at U.S. EPA Region I, 5 Post Office Square, Boston, MA 02109. During the public comment period, the Decree, may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $23.25 (25 cents per page reproduction cost) payable to the U.S. Treasury or, if by e-mail or fax, forward a check in that amount to the Consent Decree Library at the stated address.

Ronald G. Gluck,
Assistant Chief, Environmental Enforcement Section, Environment and Natural Resources Division.

[FR Doc. 2011-18208 Filed 7-19-11; 8:45 am]

BILLING CODE 4410-15-P